DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

[Docket Number FRA-2001-11369]

Applicant: Union Pacific Railroad Company, Mr. Phil M. Abaray, Chief Engineer—Signals, 1416 Dodge Street, Room 1000, Omaha, Nebraska 68179-1000.

Union Pacific Railroad Company seeks approval of the proposed removal of two controlled signals; an approach “D” signal, two power-operated derails and interlocking signal circuitry at the Missouri River turntable bridge located at St. Joseph, Missouri, M.P. 0.30 on the St. Joseph Industrial Lead, on the Falls City Subdivision, Kansas City Area. The proposed changes consist of the following:

1. Two controlled signals, L8 and R4, an approach “D” signal, 8D, two power-operated derails, and interlocking signal circuitry will be retired.

2. Two power-operated rail locks will be converted to manual with hand-throw stands.

3. Signals will be replaced by stop signs placed braking distance from each end of the rotating span of the bridge and facing approaching train traffic.

4. Trains using the bridge will be governed by special instructions.

5. Electrical span turning mechanism and powered wedge locks with associated control panel will be left in place.

The reason given for the proposed changes is due to removal of a bridge, ending the line at M.P. 42.1, the former branch line no longer carries significant traffic. The bridge is presently used less than once every three months for a train moving cars to or from storage tracks at Elwood, M.P. 1.5 on the St. Joseph Industrial lead.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9 a.m.-5 p.m.) at DOT Central Docket Management Facility, Room PI-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on February 14, 2002.
Grady C. Cothen, Jr.,
Deputy Associate Administrator for Safety Standards and Program Development.

[FR Doc. 02-4194 Filed 2-20-02; 8:45 am]

BILLING CODE 4910-06-P